NUCLEAR REGULATORY COMMISSION

[Docket No. 52-009]

System Energy Resources, Inc. Notice of Availability of the Final Environmental Impact Statement for an Early Site Permit (ESP) at the Grand Gulf ESP Site

Notice is hereby given that the U.S. Nuclear Regulatory Commission (NRC or the Commission) has published NUREG-1817, “Environmental Impact Statement for an Early Site Permit (ESP) at the Grand Gulf ESP Site—Final Report.” The site is located near the Town of Port Gibson in Claiborne County, Mississippi. The application for the ESP was submitted by letter dated October 16, 2003, pursuant to Title 10 of the Code of Federal Regulations Part 52 (10 CFR Part 52). A notice of receipt and availability of the application, which included the environmental report (ER), was published in the Federal Register on November 14, 2003 (68 FR 64665). A notice of acceptance for docketing of the application for the ESP was published in the Federal Register on December 1, 2003 (68 FR 67219). A notice of intent to prepare an environmental impact statement (EIS) and to conduct the scoping process was published in the Federal Register on December 31, 2003 (68 FR 75656). A notice of availability of the draft EIS was published in the Federal Register on April 28, 2005 (70 FR 22155).

The purpose of this notice is to inform the public that NUREG-1817, “Environmental Impact Statement for an Early Site Permit (ESP) at the Grand Gulf ESP Site—Final Report,” is available for public inspection in the NRC Public Document Room (PDR) located at One White Flint North, 11555 Rockville Pike (first floor), Rockville, Maryland, 20852, or from the Publicly Available Records (PARS) component of NRC's Agencywide Documents Access and Management System (ADAMS), and will also be placed directly on the NRC Web site at http://www.nrc.gov. ADAMS is accessible from the NRC Web site at http://www.nrc.gov/reading-rm/adams.html (the Public Electronic Reading Room). Persons who do not have access to ADAMS, or who encounter problems in accessing the documents located in ADAMS, should contact the PDR reference staff at 1-800-397-4209, 301-415-4737, or by e-mail to pdr@nrc.gov. In addition, the Harriette Person Memorial Library, located at 606 Main Street, Port Gibson, Mississippi, has agreed to make the final EIS available for public inspection.

FOR FURTHER INFORMATION CONTACT: James H. Wilson, Environmental Branch A, Division of License Renewal, U.S. Nuclear Regulatory Commission, Washington, DC, 20555-0001. Mr. Wilson may be contacted by telephone at 301-415-1108 or by e-mail at jhw1@nrc.gov.

Dated at Rockville, Maryland, this 3rd day of April 2006.
For the Nuclear Regulatory Commission
Frank P. Gillespie,
Director, Division of License Renewal, Office of Nuclear Reactor Regulation.

[FR Doc. E6-5256 Filed 4-10-06; 8:45 am]

BILLING CODE 7590-01-P